DEPARTMENT OF HOMELAND SECURITY

U.S. Customs and Border Protection

[1651-0NEW]

CBP Hiring Center Medical Records Release Privacy Act Form

AGENCY: U.S. Customs and Border Protection (CBP), Department of Homeland Security.

ACTION: 60-Day notice and request for comments; this is a new collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than May 16, 2022) to be assured of consideration.

ADDRESSES: Written comments and/or suggestions regarding the item(s) contained in this notice must include the OMB Control Number 1651-0NEW in the subject line and the agency name. Please use the following method to submit comments:

Email. Submit comments to: CBP_PRA@cbp.dhs.gov.

Due to COVID-19-related restrictions, CBP has temporarily suspended its ability to receive public comments by mail.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: CBP Hiring Center Medical Records Release Privacy Act Form.

OMB Number: 1651-0NEW.

Form Number: N/A.

Current Actions: This is a new information collection.

Type of Review: New.

Affected Public: Individuals.

Abstract: In accordance with 5 CFR 339.301, Customs and Border Protection (CBP) performs pre-employment medical evaluations on all candidates tentatively selected to fill positions that include a medical requirement, such as the CBP Officer and Border Patrol Agent positions. During that evaluation process, CBP collects medically relevant information about the candidate from: The candidate, CBP's contracted medical providers, and/or the candidate's personal medical and mental health providers.

In accordance with 5 CFR 339.305, CBP makes all medical documentation and records of examination available to the candidates. Candidates can request copies of their pre-employment medical examination results and supporting documentation/records by email or letter. Due to the sensitive nature of the information being released, CBP requires that candidates complete and sign a privacy release authorization form in order to receive a copy of their medical documents. CBP will only share medical information directly with the candidate, or with a third party when authorized to do so in writing by the candidate.

No specific information is needed to request copies of candidates' medical documents in writing. When completing the release form, candidates must provide the following information: Full name, partial Social Security Number (SSN#), Date of Birth, Current Address, Email Address, Phone Number; as well as specifying the type of medical records to be released (hearing test results, vision test results, etc.).

This information is used by CBP as confirmation that the agency has the candidate's signed authorization to provide medically related records about the candidate. A copy of that signed authorization and the records released are retained within the candidate's pre-employment file.

Type of Information Collection: Medical Records Release Privacy Act Form.

Estimated Number of Respondents: 104.

Estimated Number of Annual Responses per Respondent: 2.

Estimated Number of Total Annual Responses: 208.

Estimated Time per Response: 15 minutes.

Estimated Total Annual Burden Hours: 52 hours.

Dated: March 10, 2022.
Seth D. Renkema,
Branch Chief, Economic Impact Analysis Branch, U.S. Customs and Border Protection.

[FR Doc. 2022-05479 Filed 3-15-22; 8:45 am]

BILLING CODE P